DEPARTMENT OF ENERGY

Federal Energy Regulatory Commission

[Docket No. ER91-569-019, et al.]

Entergy Services, Inc., et al.; Electric Rate and Corporate Regulation Filings

January 9, 2002.

Take notice that the following filings have been made with the Commission. Any comments should be submitted in accordance with Standard Paragraph E at the end of this notice.

1. Entergy Services, Inc.

[Docket No. ER91-569-019]

Take notice that on January 4, 2002, Entergy Services, Inc., on behalf of the five Entergy Operating Companies: Entergy Arkansas, Inc., Entergy Gulf States, Inc., Entergy Louisiana, Inc., Entergy Mississippi, Inc., and Entergy New Orleans, Inc. (together Entergy), submits this compliance filing in response to the Commission's November 20, 2001 Order in the above-captioned docket. A copy of this filing has been served upon the state regulators of the Entergy operating companies.

Comment Date: January 25, 2002.

2. Southern Company Energy Marketing L.P.

[Docket No. ER97-4166-011]

Take notice that on January 4, 2002, Southern Company Services, Inc. acting as agent for Alabama Power Company, Georgia Power Company, Gulf Power Company, Mississippi Power Company, and Savannah Electric and Power Company, submitted a compliance filing with the Federal Energy Regulatory Commission (Commission) in response to the Commission's directions in the above referenced docket.

Comment Date: January 25, 2002.

3. AEP Power Marketing, Inc., AEP Service Corporation, CSW Power Marketing, Inc., CSW Energy Services, Inc., Central and South West Services, Inc.

[Docket Nos. ER96-2495-017; ER97-4143-005; ER97-1238-012; ER98-2075-011; ER98-542-007]

Take notice that on January 4, 2002, American Electric Power Service Corporation (AEPSC), on behalf of itself and its affiliated power marketers, submits a report of its compliance in connection with the Commission's November 20, 2001 Order and December 20, 2001 Notice Delaying Effective Date of Mitigation and Announcing Technical Conference issued in the above-referenced dockets.

Comment Date: January 25, 2002.

4. Frederickson Power L.P.

[Docket No. ER01-2262-001]

Take notice that on January 4, 2002, Frederickson Power L.P. filed with the Federal Energy Regulatory Commission (Commission) an amendment to the application for authority to sell electric energy and capacity at market-based rates filed by it on June 8, 2001.

Comment Date: January 25, 2002.

5. Select Energy New York, Inc.

[Docket No. ER02-556-000]

Take notice that on December 13, 2001, Niagara Mohawk Energy Marketing, Inc., changed it name to Select Energy New York, Inc. Accordingly, Select Energy New York, Inc. is filing a Notice of Succession, with the Federal Energy Regulatory Commission's regulations 18 CFR parts 35.16 and 131.51.

Comment Date: January 22, 2002.

6. Florida Power & Light Company

[Docket No. ER02-696-000]

Take notice that on January 4, 2002 Florida Power & Light Company (FPL) tendered for filing a proposed service agreement with Georgia Transmission Corporation for Long-Term Firm transmission service under FPL's Open Access Transmission Tariff.

FPL requests that the proposed service agreement become effective on January 1, 2002.

Comment Date: January 25, 2002.

7. Ameren Energy, Inc. on behalf of Union Electric Company ­d/b/a AmerenUE and Ameren Energy Generating Company

[Docket No. ER02-697-000]

Take notice that on January 4, 2002, Ameren Energy, Inc. (Ameren Energy), on behalf of Union Electric Company d/b/a AmerenUE and Ameren Energy Generating Company (collectively, the Ameren Parties), pursuant to section 205 of the Federal Power Act, 16 U.S.C. 824d, and the market rate authority granted to the Ameren Parties, submitted for filing umbrella power sales service agreements under the Ameren Parties' market rate authorizations entered into with Duke Energy Trading and Marketing, L.L.C. Ameren Energy seeks Commission acceptance of these service agreements effective November 20, 2001.

Copies of this filing were served on the public utilities commissions of Illinois and Missouri and the respective counterparty.

Comment Date: January 25, 2002.

8. Pleasants Energy, LLC

[Docket No. ER02-698-000]

Take notice that on January 4, 2002, Pleasants Energy, LLC tendered for filing with the Federal Energy Regulatory Commission (Commission) a Power Purchase Agreement between Pleasants Energy, LLC and Dominion Nuclear Marketing I, Inc. and Dominion Nuclear Marketing II, Inc. The agreement is filed pursuant to Pleasants Energy's market based rate tariff, FERC Electric Tariff, Original Volume No. 1 (the Tariff) granted by the Commission by letter order dated December 6, 2001. Pleasants Energy, LLC requests an effective date for the agreement of December 5, 2001.

Copies of the filing were served upon the the Public Service Commission of West Virginia, the Virginia State Corporation Commission, and the North Carolina Utilities Commission.

Comment Date: January 25, 2002.

9. Constellation Power Source Maine, LLC

[Docket No. ER02-699-000]

Take notice that on January 4, 2002, Constellation Power Source Maine, LLC submitted for filing, pursuant to section 205 of the Federal Power Act, and part 35 of the Federal Energy Regulatory Commission's (Commission) regulations, a Petition for authorization to make sales of capacity, energy, and certain Ancillary Services at market-based rates, to reassign transmission capacity, to resell Firm Transmission Rights, and for certain waivers and blanket authorizations of the Commission's regulations typically granted to entities with market-based rate authorizations.

Comment Date: January 25, 2002.

10. Florida Power & Light Company

[Docket Nos. ER02-700-000]

Take notice that on January 4, 2002, Florida Power & Light Company (FPL) filed with the Federal Energy Regulatory Commission (Commission) an unexecuted Interconnection and Operation Agreement between FPL and PG&E Okeechobee Generating Company, LLC (PG&E Okeechobee) that sets forth the terms and conditions governing the interconnection between PG&E Okeechobee's generating project and FPL's transmission system. A copy of this filing has been served on PG&E Okeechobee and the Florida Public Service Commission.

Comment Date: January 25, 2002.

Standard Paragraph

E. Any person desiring to be heard or to protest such filing should file a motion to intervene or protest with the Federal Energy Regulatory Commission, 888 First Street, NE., Washington, DC 20426, in accordance with rules 211 and 214 of the Commission's rules of practice and procedure (18 CFR parts 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR part 385.2001(a)(1)(iii) and the instructions on the Commission's web site under the “e-Filing” link.

C.B. Spencer,
Acting Secretary.

[FR Doc. 02-1062 Filed 1-15-02; 8:45 am]

BILLING CODE 6717-01-P